DEPARTMENT OF AGRICULTURE

Grain Inspection, Packers and Stockyards Administration

9 CFR Part 201

Market Agencies Selling on Commission; Purchases From Consignment

AGENCY: Grain Inspection, Packers and Stockyards Administration, USDA.

ACTION: Request for information; Extension of comment period.

SUMMARY: We published a Request for Information in the Federal Register on June 15, 2015 (80 FR 34097), asking for comments regarding a regulation issued under the Packers and Stockyards Act, 1921, as amended and supplemented (P&S Act). GIPSA regulations address circumstances under which a market agency selling livestock on a commission basis may permit its owners, officers, and employees to purchase livestock from consignments to the market. The Request for Information provided an opportunity for interested parties to submit written comments to the Grain Inspection, Packers and Stockyards Administration (GIPSA) until August 14, 2015. In response to requests from the livestock industry, we are extending the comment period to provide interested parties with additional time in which to comment.

DATES: The comment period for the Request for Information published at 80 FR 34097, June 15, 2015, which originally was to close August 14, 2015, is extended through October 13, 2015.

ADDRESSES: We invite you to submit comments on this Request for Information. You may submit comments by any of the following methods:

• E-Mail: Send comments via electronic mail to comments.gipsa@usda.gov.

• Mail: Send hardcopy written comments to M. Irene Omade, GIPSA, USDA, 1400 Independence Avenue SW., Room 2530-S, Washington, DC 20250-3613.

• Fax: Send comments by facsimile transmission to: (202) 690-2173.

• Hand Delivery or Courier: Deliver comments to: M. Irene Omade, GIPSA, USDA, 1400 Independence Avenue SW., Room 2530-S, Washington, DC 20250-3613.

• Federal eRulemaking Portal: Go to http://www.regulations.gov. Follow the on-line instructions for submitting comments.

Instructions: All comments should make reference to the date and page number of the June 15, 2015, issue of the Federal Register [80 FR 34097].

Read Comments: Regulatory analyses and other documents relating to this action will be available for public inspection in Room 2530-S, 1400 Independence Avenue SW., Washington, DC 20250-3613 during regular business hours. All comments will be available for public review in the above office during regular business hours (7 CFR 1.27(b)). Please call the Management and Budget Services staff of GIPSA at (202) 720-8479 to arrange a viewing of comments.

FOR FURTHER INFORMATION CONTACT: S. Brett Offutt, Director, Litigation and Economic Analysis Division, P&SP, GIPSA, 1400 Independence Ave. SW., Washington, DC 20250-3601, (202) 690-4355, s.brett.offutt@usda.gov.

SUPPLEMENTARY INFORMATION: GIPSA published a Request for Information in the Federal Register on June 15, 2015 (80 FR 34097), seeking public comment regarding Section 201.56 of the regulations issued under the P&S Act. The comment period of 60 days from the date of publication closes on August 14, 2015. GIPSA has received requests from the livestock industry to provide interested parties additional time to comment. In response, the comment period is extended for additional 60-day period. All comments submitted between June 15, 2015 and October 13, 2015 will be considered.

Larry Mitchell,
Administrator, Grain Inspection, Packers and Stockyards Administration.

[FR Doc. 2015-19528 Filed 8-7-15; 8:45 am]

BILLING CODE 3410-KD-P